FEDERAL MINE SAFETY AND HEALTH REVIEW COMMISSION

Sunshine Act Notice

April 9, 2014.

TIME AND DATE: 2:00 p.m., Wednesday, April 23, 2014

PLACE: The Department of Labor Auditorium, Frances Perkins Building, 200 Constitution Avenue NW, Washington, DC 20210

STATUS: Open

MATTERS TO BE CONSIDERED: The Commission will hear oral argument in the matter Secretary of Labor v. McCoy Elkhorn Coal Corporation and Jason Robinson, Docket Nos. KENT 2008-260, et al. (Issues include whether the Administrative Law Judge erred in finding high negligence, unwarrantable failure, a designation of “significant and substantial” and individual liability with regard to a violation for coal accumulations.)

Any person attending this oral argument who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Emogene Johnson,
Administrative Assistant.

[FR Doc. 2014-08449 Filed 4-10-14; 11:15 am]

BILLING CODE 6735-01-P